DEPARTMENT OF ENERGY

Federal Energy Regulatory Commission

[Docket No. RP00-375-001]

Panhandle Eastern Pipe Line Company; Notice of Compliance Filing

August 10, 2000.

Take notice that on August 7, 2000, Panhandle Eastern Pipe Line Company (Panhandle) tendered for filing as part of its FERC Gas Tariff, First Revised Volume No. 1, the following tariff sheets to be effective March 27, 2000.

Sub Seventh Revised Sheet No. 278

Sub Second Revised Sheet No. 278A

Panhandle asserts that the purpose of this filing is to comply with the Commission's Letter Order issued on July 28, 2000 in Docket No. RP00-375-000, 92 FERC ¶ 61,100 (2000). As directed by the Commission, Panhandle has modified Section 15.4(a) of the General Terms and Conditions to provide that the waiver of the price cap for short-term capacity release transactions is effective until September 30, 2002. Panhandle has also modified Section 15.4(b)(ii) to provide that unless shipper is exempt from bidding on a 31 day or less release that is not a rollover, a party must submit a bid for an assignment of less than one year until September 30, 2002.

Panhandle states that a copy of this filing is available for public inspection during regular business hours at Panhandle's office at 5444 Westheimer Road, Houston, Texas 77056-5306. In addition, copies of this filing are being served on all affected customers, applicable state regulatory agencies and parties to this proceeding.

Any person desiring to protest this filing should file a protest with the Federal Energy Regulatory Commission, 888 First Street, NE., Washington, DC 20426, in accordance with Section 385.211 of the Commission's Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-20752 Filed 8-15-00; 8:45 am]

BILLING CODE 6717-01-M